DEPARTMENT OF AGRICULTURE

Rural Business-Cooperative Service

Inviting Applications for Rural Economic Development Loan and Grant Program for Fiscal Year 2008

AGENCY: Rural Business-Cooperative Service, USDA.

ACTION: Notice.

SUMMARY: The Rural Business-Cooperative Service (RBS) announces the dollar amount available for grants is up to $300,000 per application for Rural Economic Development Grants with the aggregate amount of grant funds not to exceed $10,000,000 during fiscal year 2008.

SUPPLEMENTARY INFORMATION: RBS published a Notice on February 5, 2008, [73 FR 6696] of funds available. This Notice announces the amounts available for Rural Economic Development Grants.

Dated: March 21, 2008.
Ben Anderson,
Administrator, Rural Business-Cooperative Service.

[FR Doc. E8-6322 Filed 3-27-08; 8:45 am]

BILLING CODE 3410-XY-P